DEPARTMENT OF TRANSPORTATION

Federal Highway Administration

[Docket No. FHWA 2006-25748]

Agency Information Collection Activities: Request for Comments for New Information Collection.

AGENCY: Federal Highway Administration (FHWA), DOT.

ACTION: Notice and request for comments.

SUMMARY: The FHWA invites public comment about our intentions to request the Office of Management and Budget (OMB) approval for a new information collection, which is summarized below under SUPPLEMENTARY INFORMATION. We are required to publish this notice in the Federal Register by the Paperwork Reduction Act of 1995.

DATES: Please submit comments by November 6, 2006.

ADDRESSES: You may submit comments identified by DOT DMS Docket Number FHWA-2006-25748 to the Docket Clerk, by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received go to http:// dms.dot.gov at any time or to Room 401 on the plaza level of the Nassif Building, 400 Seventh Street, SW., Washington, DC, between 9 a.m. and 5p.m., Monday through Friday, except Federal holidays.

FOR FURTHER INFORMATION CONTACT: Julie Zirlin, 202-366-9105, Department of Transportation, Federal Highway Administration, Office of Infrastructure, 400 Seventh Street, SW., Washington, DC 20590. Office hours are from 8:00 am to 4:30 pm., Monday through Friday, except Federal holidays.

SUPPLEMENTARY INFORMATION: Title: Highways for LIFE Technology Partnerships Program.

Background: Section 1502 of SAFETEA-LU establishes the “Highways for LIFE” Pilot Program. The purpose of the Highways for LIFE pilot program is to advance longer-lasting highways using innovative technologies and practices to accomplish the fast construction of efficient and safe highways and bridges. “Highways for LIFE” is focused on accelerating the rate of adoption of proven technologies. The Technology Partnerships component of the program allows the FHWA to give grants or enter into cooperative agreements or other transactions to move proven but under-utilized or un-utilized market-ready technologies and methods into practice in the highway construction business. Members of the transportation industry would be required to prepare a proposal describing the innovation, the problem it addresses, how it differs from other products currently available, the potential for payoff, and the steps required to bring the innovation to commercialization. The proposal would be reviewed by a panel to evaluate and select proposals for “Technology Partnerships” funding.

Respondents: An estimated 53 Members of the transportation industry.

Frequency: The information will be collected once in the year 2007 and twice a year in 2008 and 2009.

Estimated Average Burden per Response: 24 hours per respondent per application.

Estimated Total Annual Burden Hours: It is anticipated that there will be approximately 160 applications for the duration of the three-year program for an estimated 1,280 total annual burden hours.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: August 30, 2006.
James R. Kabel,
Chief, Management Programs and Analysis Division.

[FR Doc. E6-14658 Filed 9-1-06; 8:45 am]

BILLING CODE 4910-22-P